DEPARTMENT OF ENERGY

Federal Energy Regulatory Commission

Combined Notice of Filings #1

Take notice that the Commission received the following exempt wholesale generator filings:

Docket Numbers: EG23-205-000.

Applicants: Algodon Solar Energy Holdings LLC.

Description: Algodon Solar Energy Holdings LLC submits Notice of Self-Certification of Exempt Wholesale Generator Status.

Filed Date: 6/26/23.

Accession Number: 20230626-5061.

Comment Date: 5 p.m. ET 7/17/23.

Docket Numbers: EG23-206-000.

Applicants: Algodon Solar Energy LLC.

Description: Algodon Solar Energy LLC submits Notice of Self-Certification of Exempt Wholesale Generator Status.

Filed Date: 6/26/23.

Accession Number: 20230626-5063.

Comment Date: 5 p.m. ET 7/17/23.

Docket Numbers: EG23-207-000.

Applicants: Chisholm Trail Solar Energy Holdings LLC.

Description: Chisholm Trail Solar Energy Holdings LLC submits Notice of Self-Certification of Exempt Wholesale Generator Status.

Filed Date: 6/26/23.

Accession Number: 20230626-5064.

Comment Date: 5 p.m. ET 7/17/23.

Docket Numbers: EG23-208-000.

Applicants: Flat Ridge 4 Wind, LLC.

Description: Flat Ridge 4 Wind, LLC submits Notice of Self-Certification of Exempt Wholesale Generator Status.

Filed Date: 6/26/23.

Accession Number: 20230626-5065.

Comment Date: 5 p.m. ET 7/17/23.

Docket Numbers: EG23-209-000.

Applicants: Chisholm Trail Solar Energy LLC.

Description: Chisholm Trail Solar Energy LLC submits Notice of Self-Certification of Exempt Wholesale Generator Status.

Filed Date: 6/26/23.

Accession Number: 20230626-5066.

Comment Date: 5 p.m. ET 7/17/23.

Docket Numbers: EG23-210-000.

Applicants: Flat Ridge 4 Wind Holdings LLC.

Description: Flat Ridge 4 Wind Holdings LLC submits Notice of Self-Certification of Exempt Wholesale Generator Status.

Filed Date: 6/26/23.

Accession Number: 20230626-5067.

Comment Date: 5 p.m. ET 7/17/23.

Docket Numbers: EG23-211-000.

Applicants: Flat Ridge 5 Wind Energy Holdings LLC.

Description: Flat Ridge 5 Wind Energy Holdings LLC submits Notice of Self-Certification of Exempt Wholesale Generator Status.

Filed Date: 6/26/23.

Accession Number: 20230626-5068.

Comment Date: 5 p.m. ET 7/17/23.

Docket Numbers: EG23-212-000.

Applicants: Flat Ridge 5 Wind Energy LLC.

Description: Flat Ridge 5 Wind Energy LLC submits Notice of Self-Certification of Exempt Wholesale Generator Status.

Filed Date: 6/26/23.

Accession Number: 20230626-5070.

Comment Date: 5 p.m. ET 7/17/23.

Docket Numbers: EG23-213-000.

Applicants: Lazbuddie Wind Energy LLC.

Description: Lazbuddie Wind Energy LLC submits Notice of Self-Certification of Exempt Wholesale Generator Status.

Filed Date: 6/26/23.

Accession Number: 20230626-5096.

Comment Date: 5 p.m. ET 7/17/23.

Docket Numbers: EG23-214-000.

Applicants: Pixley Solar Energy Holdings LLC.

Description: Pixley Solar Energy Holdings LLC submits Notice of Self-Certification of Exempt Wholesale Generator Status.

Filed Date: 6/26/23.

Accession Number: 20230626-5097.

Comment Date: 5 p.m. ET 7/17/23.

Docket Numbers: EG23-215-000.

Applicants: Pixley Solar Energy LLC.

Description: Pixley Solar Energy LLC submits Notice of Self-Certification of Exempt Wholesale Generator Status.

Filed Date: 6/26/23.

Accession Number: 20230626-5099.

Comment Date: 5 p.m. ET 7/17/23.

Docket Numbers: EG23-216-000.

Applicants: Lazbuddie Wind Energy Holdings LLC.

Description: Lazbuddie Wind Energy Holdings LLC submits Notice of Self-Certification of Exempt Wholesale Generator Status.

Filed Date: 6/26/23.

Accession Number: 20230626-5122.

Comment Date: 5 p.m. ET 7/17/23.

Take notice that the Commission received the following electric rate filings:

Docket Numbers: ER08-1178-000; EL08-88-000.

Applicants: California Independent System Operator Corporation, California Independent System Operator Corporation.

Description: February 2023 through May 2023 Exceptional Dispatch 120 Day Report of the California Independent System Operator Corporation, et al.

Filed Date: 6/26/23.

Accession Number: 20230626-5131.

Comment Date: 5 p.m. ET 7/17/23.

Docket Numbers: ER10-2564-013; ER10-2600-013; ER10-2289-013.

Applicants: UniSource Energy Development Company, UNS Electric, Inc., Tucson Electric Power Company.

Description: Supplement to December 29, 2021 Triennial Market Power Analysis for Southwest Region of UniSource Energy Development Company, et al.

Filed Date: 6/21/23.

Accession Number: 20230621-5170.

Comment Date: 5 p.m. ET 7/12/23.

Docket Numbers: ER22-69-002.

Applicants: Indeck Niles, LLC.

Description: Notice of Non-Material Change in Status of Indeck Niles, LLC.

Filed Date: 6/23/23.

Accession Number: 20230623-5188.

Comment Date: 5 p.m. ET 7/14/23.

Docket Numbers: ER23-446-002.

Applicants: Duke Energy Indiana, LLC.

Description: Tariff Amendment: DEI—Ameren Services—Amendment of Construction Agreement to be effective 11/17/2022.

Filed Date: 6/26/23.

Accession Number: 20230626-5128.

Comment Date: 5 p.m. ET 7/17/23.

Docket Numbers: ER23-1609-001.

Applicants: PJM Interconnection, L.L.C.

Description: Compliance filing: Compliance Filing to Specify Delayed Auction Dates in ER23-1609 to be effective 6/10/2023.

Filed Date: 6/26/23.

Accession Number: 20230626-5119.

Comment Date: 5 p.m. ET 7/17/23.

Docket Numbers: ER23-2233-000.

Applicants: Algodon Solar Energy Holdings LLC.

Description: Baseline eTariff Filing: Application for Market-Based Rate Authorization to be effective 8/26/2023.

Filed Date: 6/26/23.

Accession Number: 20230626-5039.

Comment Date: 5 p.m. ET 7/17/23.

Docket Numbers: ER23-2234-000.

Applicants: Algodon Solar Energy LLC.

Description: Baseline eTariff Filing: Application for Market-Based Rate Authorization to be effective 8/26/2023.

Filed Date: 6/26/23.

Accession Number: 20230626-5040.

Comment Date: 5 p.m. ET 7/17/23.

Docket Numbers: ER23-2235-000.

Applicants: Chisholm Trail Solar Energy Holdings LLC.

Description: Baseline eTariff Filing: Application for Market-Based Rate Authorization to be effective 8/26/2023.

Filed Date: 6/26/23.

Accession Number: 20230626-5041.

Comment Date: 5 p.m. ET 7/17/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 26, 2023.
Debbie-Anne A. Reese,
Deputy Secretary.

[FR Doc. 2023-13978 Filed 6-29-23; 8:45 am]

BILLING CODE 6717-01-P